DEPARTMENT OF ENERGY

Federal Energy Regulatory Commission

Notice of Amendment of License and Soliciting Comments, Motions To Intervene, and Protests

November 15, 2000.

Take notice that the following hydroelectric application has been filed with the Commission and is available for public inspection:

a. Application Type: Proposed Recreation and Land Management Plan.

b. Project No.: 400-033.

c. Date Filed: October 16, 2000.

d. Applicant: Public Service Company of Colorado.

e. Name of Project: Tacoma-Ames Hydroelectric Project.

f. Location: The Tacoma-Ames Hydroelectric Project is on the Animas River in LaPlata and San Juan Counties, Colorado. Land within the San Juan and Uncompahgre National Forests and under the jurisdiction of the Bureau of Land Management are located within the project boundary. No Indian Tribal lands are located within the project boundary.

g. Filed Pursuant to: Federal Power Act, 16 U.S.C. 791(a)-825(r).

h. Applicant Contact: Mr. Randy Rhodes, Public Service Company of Colorado, 550 15th Street, Suite 900, Denver, CO 80202-4256; (303) 571-7211.

i. FERC Contact: Jon Cofrancesco at (202) 219-0079 or jon.cofrancesco@ferc.fed.us.

j. Deadline for filing comments, terms and conditions, motions to intervene, and protests: 30 days from the issuance date of this notice.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Public Service Company of Colorado (licensee) filed a proposed recreation and land management plan for the Tacomo Development of the Tacoma-Ames Hydroelectric Project. The Tacoma Development includes Electra Lake (a project reservoir) and the surrounding lands within the project boundary. Under a long-standing lease agreement with the licensee, the Electra Sporting Club (ESC) occupies portions of project lands at Electra Lake and, pursuant to the project's existing recreation plan, is responsible for the management of public recreation use and development at Electra Lake. The licensee filed the proposed plan in response to a condition of a previously executed land acquisition agreement involving a portion of project lands.

The proposed plan establishes the licensee's future management practices and guidelines for public recreation and private development at Electra Lake and the adjoining project lands. The proposed plan is intended to ensure that recreation use and private development at Electra Lake is consistent with hydroelectric operations, the terms and conditions of the project license, including the project's existing recreation plan, the lease agreement between the licensee and the ESC, and all other applicable Federal, state, and local laws and regulations. The proposed plan contains provisions addressing existing and future private development, public recreation use and opportunities, and the preservation of natural resources, including scenic and environmental values, at Electra Lake and the adjoining project lands.

l. A copy of the proposed plan is available for inspection and reproduction at the Commission's Public Reference Room at 888 First Street, NE, Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commissions will consider all protects or other comments filed, but only those who file a motion to intervene in accordance with the Commission's Rules may become a party to the proceeding. Any comments, protests, or motion to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the proposed play may be obtained by agencies directly from the applicant. If an agency does not file comments within the time specified for filing comments, it will be presumed to have no comments. One copy of an agency's comments must also be sent to the Applicant's representatives.

Linwood A. Watson, Jr.,
Acting Secretary.

[FR Doc. 00-29693 Filed 11-20-00; 8:45 am]

BILLING CODE 6717-01-M